ENVIRONMENTAL PROTECTION AGENCY

40 CFR Parts 141 and 143

[EPA-HQ-OW-2015-0680; FRL-9960-52-OW]

RIN 2040-AF55

Use of Lead Free Pipes, Fittings, Fixtures, Solder and Flux for Drinking Water; Extension of Comment Period

AGENCY: Environmental Protection Agency (EPA).

ACTION: Proposed rule; extension of comment period.

SUMMARY: The Environmental Protection Agency (EPA) is extending the comment period for the proposed rule, “Use of Lead Free Pipes, Fittings, Fixtures, Solder and Flux for Drinking Water.” In response to a stakeholder request, EPA is extending the comment period for an additional 30 days, from April 17, 2017, to May 17, 2017.

DATES: Comments must be received on or before May 17, 2017.

ADDRESSES: Submit your comments, identified by Docket ID No. EPA-HQ-OW-2015-0680, to the Federal eRulemaking Portal: http://www.regulations.gov. Follow the online instructions for submitting comments. Once submitted, comments cannot be edited or removed from Regulations.gov. EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e., on the web, cloud, or other file sharing system). For additional submission methods, the full

EPA public comment policy, information about CBI or multimedia submissions, and general guidance on making effective comments, please visit http://www2.epa.gov/dockets/commenting-epa-dockets.

FOR FURTHER INFORMATION CONTACT: Russ Perkinson at U.S. EPA, Office of Ground Water and Drinking Water (Mail Code 4607M), 1200 Pennsylvania Avenue NW., Washington, DC 20460; telephone: 202-564-4901; or email: perkinson.russ@epa.gov.

SUPPLEMENTARY INFORMATION: On January 17, 2017, EPA published in the Federal Register (82 FR 4805), a proposed rule. The Agency requests comment on the proposed rule: “Use of Lead Free Pipes, Fittings, Fixtures, Solder and Flux for Drinking Water.” The proposed rule, as initially published in the Federal Register, provided for written comments to be submitted to EPA on or before April 17, 2017, (a 90-day public comment period). Since publication, EPA has received a request for additional time to submit comments. EPA is extending the public comment period for 30 days until May 17, 2017.

Dated: March 21, 2017.
Michael H. Shapiro,
Acting Assistant Administrator, Office of Water.

[FR Doc. 2017-07148 Filed 4-10-17; 8:45 am]

BILLING CODE 6560-50-P